NATIONAL ARCHIVES AND RECORDS ADMINISTRATION

36 CFR Part 1280

RIN 3095-AB22

NARA Facilities; Hours of Operation for the Exhibition Hall

AGENCY: National Archives and Records Administration (NARA).

ACTION: Proposed rule.

SUMMARY: The National Archives and Records Administration proposes to modify the extended hours that the Exhibition Hall in the National Archives Building in Washington, DC, is open from April 1 through the Friday before Memorial Day. The Exhibition Hall would close at 7 p.m. instead of 9 p.m. during this period. We are proposing to limit the extended hours during this period to be more cost-effective and because this is when attendance is the lightest. NARA's Exhibition Hall would still have the longest hours of any Washington museum on the National Mall. The proposed change does not affect the research room hours stated in part 1253 in any manner. This proposed rule affects the public.

DATES: Comments are due by August 18, 2003.

ADDRESSES: Comments must be sent to Regulation Comments Desk (NPOL), Room 4100, Policy and Communications Staff, National Archives and Records Administration, 8601 Adelphi Road, College Park, MD 20740-6001. They may be faxed to 301-837-0319. Electronic comments may be submitted through Regulations.gov. You may also comment via e-mail to comments@nara.gov. Please see the SUPPLEMENTARY INFORMATION section of the preamble for additional information on e-mail submissions.

FOR FURTHER INFORMATION CONTACT: Kim Richardson at telephone number 301-837-2902, or fax number 301-837-0319.

SUPPLEMENTARY INFORMATION: NARA's Exhibition Hall, which contains the Declaration of Independence, the Constitution, and other exhibits, is closed for renovation. When it reopens, we are proposing to close it at 7 p.m. instead of 9 p.m., from April 1 through the Friday before Memorial Day. Before renovation, the Exhibition Hall closed at 9 p.m. during this period. The closing times for the remainder of the months is unchanged. The Exhibition Hall opens at 10 a.m. the entire year and this also remains unchanged.

On September 18, 2003, the first phase of the new National Archives Experience, the rededicated “Rotunda for the Charters of Freedom”, opens to the general public. Over the course of the year that follows, three additional galleries and a new theater will open as well. There will be additional costs for providing security, maintenance, and visitor services as public spaces are expanded more than three-fold.

Building occupation during the extended hours of 7 p.m. to 9 p.m. is not typically as heavy as during daytime hours, particularly in the spring when all other museums on the National Mall close at 5:30 p.m. Given increased costs of operation, a careful review was made of whether it was prudent to keep the extended hours.

A distinction was made between the period from April 1 to Memorial Day weekend, and the period from Memorial Day weekend to Labor Day, because during the latter period we have more family visitors and some Mall museums have extended evening hours.

This proposed rule does not affect the research room hours at the National Archives Building in Washington, DC, stated in part 1253.

If you submit comments via e-mail, please submit the comments within the body of your email message or attachment avoiding the use of any form of encryption. Please also include “Attn: 3095-AB22” and your name and return address in your e-mail message. If you do not receive a confirmation that we have received your email message, contact the Regulation Comment Desk at 301-837-2902.

This proposed rule is not a significant regulatory action for the purposes of Executive Order 12866 and has been reviewed by the Office of Management and Budget. As required by the Regulatory Flexibility Act, I certify that this proposed rule will not have a significant impact on a substantial number of small entities. This regulation does not have any federalism implications.

List of Subjects in 36 CFR Part 1280

Federal buildings and facilities.

For the reasons set forth in the preamble, NARA proposes to amend part 1280 of title 36, Code of Federal Regulations, chapter XII, as follows:

PART 1280—PUBLIC USE OF NARA FACILITIES

1. The authority citation for part 1280 continues to read as follows:

Authority: 44 U.S.C. 2104(a).

2. Revise § 1280.62 to read as follows:

§ 1280.62 When is the Exhibition Hall open?

(a) The Exhibition Hall is open to the public during the following hours:

(1) The day after Labor Day through March 31, hours are 10 a.m. to 5:30 p.m.

(2) April 1 through the Friday before Memorial Day, hours are 10 a.m. to 7 p.m.

(3) Memorial Day weekend through Labor Day, hours are 10 a.m. to 9 p.m.

(b) The Archivist of the United States reserves the authority to close the Exhibition Hall to the public at any time for special events or other purposes. The building is closed on December 25.

Dated: June 10, 2003.
Lewis J. Bellardo,
Deputy Archivist of the United States.

[FR Doc. 03-15190 Filed 6-16-03; 8:45 am]

BILLING CODE 7515-01-P